RAILROAD RETIREMENT BOARD

Agency Forms Submitted for OMB Review, Request for Comments

Summary: In accordance with the Paperwork Reduction Act of 1995, the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collection of information to determine (1) the practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application and Claim for Unemployment Benefits and Employment Service; OMB 3220-0022.

Section 2 of the Railroad Unemployment Insurance Act (RUIA) (45 U.S.C. 231), provides unemployment benefits for qualified railroad employees. These benefits are generally payable for each day of unemployment in excess of four during a registration period (normally a period of 14 days).

Section 12 of the RUIA provides that the RRB establish, maintain and operate free employment facilities directed toward the reemployment of railroad employees. The procedures for applying for the unemployment benefits and employment service and for registering and claiming the benefits are prescribed in 20 CFR part 325.

The RRB utilizes the following forms to collect the information necessary to pay unemployment benefits: Form UI-1 (or its internet equivalent, Form UI-1 (internet)), Application for Unemployment Benefits and Employment Service, is completed by a claimant for unemployment benefits once in a benefit year, at the time of first registration. Completion of Form UI-1 or UI-1 (internet) also registers an unemployment claimant for the RRB's employment service.

The RRB also utilizes Form UI-3, (or its internet equivalent Form UI-3 (internet)) Claim for Unemployment Benefits for use in claiming unemployment benefits for days of unemployment in a particular registration period, normally a period of 14 days.

Completion of Forms UI-1, UI-1 (internet), UI-3 and UI-3 (internet) is required to obtain or retain benefits. The number of responses required of each claimant varies, depending on their period of unemployment.

Previous Requests for Comments: The RRB has already published the initial 60-day notice (85 FR 16687 on March 24, 2020) required by 44 U.S.C. 3506(c)(2). That request elicited no comments.

Information Collection Request (ICR)

Title: Application and Claim for Unemployment Benefits and Employment Service.

OMB Control Number: 3220-0022.

Forms submitted: UI-1, UI-1 (internet), UI-3, UI-3 (internet).

Type of request: Extension without change of a currently approved collection.

Affected public: Individuals or Households.

Abstract: Under Section 2 of the Railroad Unemployment Insurance Act, unemployment benefits are provided for qualified railroad employees. The collection obtains the information needed to determine the eligibility to and amount of such benefits for railroad employees.

Changes proposed: The RRB proposes no changes to the forms in the collection.

The burden estimate for the ICR is as follows:

UI-1 | 6,654 | 10 | 1,109
UI-1 (Internet) | 4,357 | 10 | 726
UI-3 | 27,815 | 6 | 2,782
UI-3 (Internet) | 42,836 | 6 | 4,284
Total | 81,662 |  | 8,901

2. Title and purpose of information collection: RUIA Investigations and Continuing Entitlement; OMB 3220-0025.

Under Section 1(k) of the Railroad Unemployment Insurance Act (RUIA) (45 U.S.C. 231), unemployment and sickness benefits are not payable for any day remuneration is payable or accrues to the claimant. Also, Section 4(a-1) of the RUIA provides that unemployment or sickness benefits are not payable for any day the claimant receives the same benefits under any law other than the RUIA. Under Railroad Retirement Board (RRB) regulation 20 CFR 322.4(a), a claimant's certification or statement on an RRB-provided claim form, that he or she did not work on any day claimed and did not receive income such as vacation pay or pay for time lost, shall constitute sufficient evidence unless there is conflicting evidence. Further, under 20 CFR 322.4(b), when there is a question raised as to whether or not remuneration is payable or has accrued to a claimant with respect to a claimed day(s), an investigation shall be made with a view to obtaining information sufficient for a finding. The RRB utilizes the following three forms to obtain information from railroad employers, nonrailroad employers, and claimants, that is needed to determine whether a claimed day(s) of unemployment or sickness were improperly or fraudulently claimed: Form ID-5i, Request for Employment Information; Form ID-5R (SUP), Report of Employees Paid RUIA Benefits for Every Day in Month Reported as Month of Creditable Service; and Form UI-48, Statement Regarding Benefits Claimed for Days Worked. Completion is voluntary. One response is requested of each respondent.

To qualify for unemployment or sickness benefits payable under Section 2 of the Railroad Unemployment Insurance Act (RUIA), a railroad employee must have certain qualifying earnings in the applicable base year. In addition, to qualify for extended or accelerated benefits under Section 2 of the RUIA, a railroad employee who has exhausted his or her rights to normal benefits must have at least 10 years of railroad service (under certain conditions, military service may be credited as months of railroad service). Accelerated benefits are unemployment or sickness benefits that are payable to a railroad employee before the regular July 1 beginning date of a benefit year if an employee has 10 or more years of service and is not qualified for benefits in the current benefit year.

During the RUIA claims review process, the RRB may determine that unemployment or sickness benefits cannot be awarded because RRB records show insufficient qualifying service and/or compensation. When this occurs, the RRB allows the claimant the opportunity to provide additional information if they believe that the RRB service and compensation records are incorrect.

Depending on the circumstances, the RRB provides the following forms to obtain information needed to determine if a claimant has sufficient service or compensation to qualify for unemployment or sickness benefits. Form UI-9, Statement of Employment and Wages; Form UI-44, Claim for Credit for Military Service; Form ID-4U, Advising of Service/Earnings Requirements for Unemployment Benefits; and Form ID-4X, Advising of Service/Earnings Requirements for Sickness Benefits. Completion of these forms is required to obtain or retain a benefit. One response is required of each respondent.

Previous Requests for Comments: The RRB has already published the initial 60-day notice (85 FR 16688 on March 24, 2020) required by 44 U.S.C. 3506(c)(2). That request elicited no comments.

Information Collection Request (ICR)

Title: RUIA Investigations and Continuing Entitlement.

OMB Control Number: 3220-0025.

Forms submitted: UI-9, UI-44, UI-48, ID-4U, ID-4X, ID-5I, ID-5R (SUP).

Type of request: Revision of a currently approved collection.

Affected public: Private Sector; Businesses or other for profits.

Abstract: The information collection has two purposes. When RRB records indicate that railroad service and/or compensation is insufficient to qualify a claimant for unemployment or sickness benefits, the RRB obtains information needed to reconcile the compensation and/or service on record with that claimed by the employee. Other forms in the collection allow the RRB to determine whether unemployment or sickness benefits were improperly obtained.

Changes proposed: The RRB proposes the following change to all forms, except ID-5R (SUP): Change PRA/PA notice to update the officer title and update the RRB zip code.

The burden estimate for the ICR is as follows:

Form No. | Annual responses | Time (minutes) | Burden (hours)
UI-9 | 69 | 10 | 11
UI-44 | 10 | 5 | 1
UI-48 | 14 | 12 | 3
ID-4U | 35 | 5 | 3
ID-4X | 25 | 5 | 2
ID-5i | 1,050 | 15 | 262
ID-5R (SUP) | 400 | 10 | 67
Total | 1,603 |  | 349

3. Title and purpose of information collection: Public Service Pension Questionnaires; OMB 3220-0136.

Public Law 95-216 amended the Social Security Act of 1977 by providing, in part, that spouse or survivor benefits may be reduced when the beneficiary is in receipt of a pension based on employment with a Federal, State, or local governmental unit. Initially, the reduction was equal to the full amount of the government pension.

Public Law 98-21 changed the reduction to two-thirds of the amount of the government pension. Public Law 108-203 amended the Social Security Act by changing the requirement for exemption to public service offset, that Federal Insurance Contributions Act (FICA) taxes be deducted from the public service wages for the last 60 months of public service employment, rather than just the last day of public service employment.

Sections 4(a)(1) and 4(f)(1) of the Railroad Retirement Act (RRA) (45 U.S.C. 231) provides that a spouse or survivor annuity should be equal in amount to what the annuitant would receive if entitled to a like benefit from the Social Security Administration. Therefore, the public service pension (PSP) provisions apply to RRA annuities. RRB regulations pertaining to the collection of evidence relating to public service pensions or worker's compensation paid to spouse or survivor applicants or annuitants are found in 20 CFR 219.64c.

The RRB utilizes Form G-208, Public Service Pension Questionnaire, and Form G-212, Public Service Monitoring Questionnaire, to obtain information used to determine whether an annuity reduction is in order. Completion of the forms is voluntary. However, failure to complete the forms could result in the nonpayment of benefits. One response is requested of each respondent.

Previous Requests for Comments: The RRB has already published the initial 60-day notice (85 FR 16689 on March 24, 2020) required by 44 U.S.C. 3506(c)(2). That request elicited no comments.

Information Collection Request (ICR)

Title: Public Service Pension Questionnaires.

OMB Control Number: 3220-0136.

Forms submitted: G-208 and G-212.

Type of request: Extension without change of a currently approved collection.

Affected public: Individuals or Households.

Abstract: A spouse or survivor annuity under the Railroad Retirement Act may be subjected to a reduction for a public service pension. The questionnaires obtain information needed to determine if the reduction applies and the amount of such reduction.

Changes proposed: The RRB proposes no changes to the forms in the collection.

The burden estimate for the ICR is as follows:

Form No. | Annual responses | Time (minutes) | Burden (hours)
G-208 | 70 | 16 | 19
G-212 | 1,100 | 15 | 275
Total | 1,170 |  | 294

4. Title and purpose of information collection: Report of Medicaid State Office on Beneficiary's Buy-In Status; OMB 3220-0185.

Under Section 7(d) of the Railroad Retirement Act (45 U.S.C. 231), the RRB administers the Medicare program for persons covered by the railroad retirement system. Under Section 1843 of the Social Security Act, states may enter into “buy-in agreements” with the Secretary of Health and Human Services for the purpose of enrolling certain groups of low-income individuals under the Medicare medical insurance (Part B) program and paying the premiums for their insurance coverage. Generally, these individuals are categorically needy under Medicaid and meet the eligibility requirements for Medicare Part B. States can also include in their buy-in agreements, individuals who are eligible for medical assistance only. The RRB uses Form RL-380-F, Report to State Medicaid Office, to obtain information needed to determine if certain railroad beneficiaries are entitled to receive Supplementary Medical Insurance program coverage under a state buy-in agreement in states in which they reside. Completion of Form RL-380-F is voluntary. One response is received from each respondent.

Previous Requests for Comments: The RRB has already published the initial 60-day notice (85 FR 16689 on March 24, 2020) required by 44 U.S.C. 3506(c)(2). That request elicited no comments.

Information Collection Request (ICR)

Title: Report of Medicaid State Office on Beneficiary's Buy-In Status.

OMB Control Number: 3220-0185.

Forms submitted: RL-380-F.

Type of request: Revision of a currently approved collection.

Affected public: State, Local, and Tribal Governments.

Abstract: Under the Railroad Retirement Act, the Railroad Retirement Board administers the Medicare program for persons covered by the railroad retirement system. The collection obtains the information needed to determine if certain railroad beneficiaries are entitled to receive Supplemental Medical Insurance program coverage under a state buy-in agreement in states in which they reside.

Changes proposed: The RRB proposes the following changes to Form RL-380-F: Remove the word “claim” from the second box on the right side and remove the word “claim” and replaced with “Medicare” for question 4.

The burden estimate for the ICR is as follows:

Form No. | Annual responses | Time (minutes) | Burden (hours)
RL-380-F | 600 | 10 | 100

5. Title and purpose of information collection: Self-Employment/Corporate Officer Work and Earnings Monitoring; OMB 3220-0202.

Section 2 of the Railroad Retirement Act (RRA) (45 U.S.C. 231) provides for the payment of disability annuities to qualified employees. Section 2 also provides that if the Railroad Retirement Board (RRB) receives a report of an annuitant working for a railroad or earning more than prescribed dollar amounts from either nonrailroad employment or self-employment, the annuity is no longer payable, or can be reduced, for the months worked. The regulations related to the nonpayment or reduction of the annuity by reason of work are prescribed in 20 CFR 220.160-220.164.

Some activities claimed by the applicant as “self-employment” may actually be employment for someone else (e.g., training officer, consultant, salesman). Title 20 CFR 216.22(c) states, for example, that an applicant is considered an employee, and not self-employed, when acting as a corporate officer, since the corporation is the applicant's employer. Whether the RRB classifies a particular activity as self-employment or as work for an employer depends upon the circumstances in each case. The circumstances are prescribed in 20 CFR 216.21-216.23.

Certain types of work may actually indicate an annuitant's recovery from disability. Regulations related to an annuitant's recovery from disability for work are prescribed in 20 CFR 220.17-220.20.

In addition, the RRB conducts continuing disability reviews (also known as a CDR), to determine whether the annuitant continues to meet the disability requirements of the law. Payment of disability benefits and/or a beneficiary's period of disability will end if medical evidence or other information shows that an annuitant is not disabled under the standards prescribed in Section 2 of the RRA. Continuing disability reviews are generally conducted if one or more of the following conditions are met: (1) The annuitant is scheduled for a routine periodic review, (2) the annuitant returns to work and successfully completes a trial work period, (3) substantial earnings are posted to the annuitant's wage record, or (4) information is received from the annuitant or a reliable source that the annuitant has recovered or returned to work. Provisions relating to when and how often the RRB conducts disability reviews are prescribed in 20 CFR 220.186.

To enhance program integrity activities, the RRB utilizes Form G-252, Self-Employment/Corporate Officer Work and Earnings Monitoring. Form G-252 obtains information from a disability annuitant who either claims to be self-employed or a corporate officer, or who the RRB determines to be self-employed or a corporate officer after a continuing disability review. The continuing disability review may be prompted by a report of work, return to railroad service, an allegation of a medical improvement or a routine disability review call-up. The information gathered is used to determine entitlement and/or continued entitlement to, and the amount of, the disability annuity, as prescribed in 20 CFR 220.176. Completion is required to retain benefits. One response is required of each respondent.

Previous Requests for Comments: The RRB has already published the initial 60-day notice (85 FR 16689 on March 24, 2020) required by 44 U.S.C. 3506(c)(2). That request elicited no comments.

Information Collection Request (ICR)

Title: Self-Employment/Corporate Officer Work and Earnings Monitoring.

OMB Control Number: 3220-0202.

Form(s) submitted: G-252.

Type of request: Extension without change of a currently approved collection.

Affected public: Individuals or Households.

Abstract: To determine entitlement or continued entitlement to a disability annuity, the RRB will obtain information from disability annuitants who claim to be self-employed or a corporate officer or who the RRB determines to be self-employed or a corporate officer after a continuing disability review.

Changes proposed: The RRB proposes no changes to Form G-252.

The burden estimate for the ICR is as follows:

Form No. | Annual responses | Time (minutes) | Burden (hours)
G-252 | 100 | 20 | 33
Total | 100 |  | 33

Additional Information or Comments: Copies of the forms and supporting documents can be obtained from Kennisha Tucker at (312) 469-2591 or Kennisha.Tucker@rrb.gov. Comments regarding the information collection should be addressed to Brian Foster, Railroad Retirement Board, 844 North Rush Street, Chicago, Illinois 60611-1275 or Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2020-13447 Filed 6-22-20; 8:45 am]

BILLING CODE 7905-01-P